DEPARTMENT OF COMMERCE

National Telecommunications and Information Administration

Advanced Mobile Communications/Third Generation Wireless Systems: Creation of Open Electronic Discussion Forum

AGENCY: National Telecommunications and Information Administration, Commerce.

ACTION: Notice

SUMMARY: The National Telecommunications and Information Administration (NTIA) has created an open electronic-mail discussion forum (or “listserv”) on issues pertaining to the identification of radio spectrum for third generation wireless systems in the United States. This open forum is intended to complement the outreach program that President Clinton directed Secretary of Commerce to undertake, in the President's October 13, 2000 Executive Memorandum on this subject. Participation in this listserv is open to all members of the public interested in discussing the issues.

DATES: The listserv will remain open until July 31, 2001, or such other time that NTIA determines. Please note that routine maintenance of NTIA computer systems may render the list inactive for short periods of time.

ADDRESS: To subscribe to the mailing list, send an electronic mail message to <3glist-request@ntia.doc.gov>, leave the subject line blank and put the following command in the body of the message: <subscribe your first name your last name>. Instructions on how to subscribe will also appear on NTIA's home page, <http://www.ntia.doc.gov>.

FOR FURTHER INFORMATION: For further information, please contact Joe Gattuso, NTIA Office of Policy Analysis and Development, telephone: (202) 482-1880; fax: (202) 482-6173; e-mail: <jgattuso@ntia.doc.gov>; U.S. mail: National Telecommunications and Information Administration, Herbert C. Hoover Building, 1401 Constitution Avenue, NW., Suite 4725, Washington, DC 20230.

Please direct media inquiries the NTIA Office of Public Affairs, at (202) 482-7002.

SUPPLEMENTARY INFORMATION: On October 13, 2000, President Clinton signed an Executive Memorandum directing federal agencies to work with the Federal Communications Commission (FCC) and the private sector to identify radio spectrum needed for third generation (3G) wireless communications technology. To meet this goal, the President directed the Secretary of Commerce, among other things, to develop a plan by October 20, 2000, in cooperation with the FCC, the Department of Defense, and other federal agencies, setting forth the necessary steps that will result in licensing of third generation wireless systems by September 30, 2002. The President also directed the Secretary of Commerce to work cooperatively with the FCC to a lead a government-industry effort, through a series of regular public meetings and workshops, to develop recommendations and plans for identifying spectrum for third generation wireless systems consistent with the basic principles adopted at the World Radio Conference 2000.

NTIA is establishing this listserv to facilitate additional, open, public discussion of the issues presented. NTIA requests that participants keep discussions focused on issues related to identification of radio spectrum for 3G systems in the United States. NTIA will not actively moderate the listserv, but staff will follow the discussions. NTIA does not intend this listserv to form a public record upon which to base future policy or administrative actions or activities. The views expressed in the listserv discussions are not necessarily endorsed by the NTIA, the Department of Commerce, or any other agency or entity of the United States Government. NTIA reserves the right to post an archive of messages to the listserv on its public website. More information on NTIA's privacy policy is available at <http://www.ntia.doc.gov/ntiahome/priv616.htm>. Moreover, NTIA reserves the right not to post comments that it deems inappropriate.

The President's Executive Memorandum, the Secretary's statement, the 3G plan, the interim reports, and other information are available on NTIA's web site at <http://www.ntia.doc.gov/ntiahome.threeg.index.html>.

Kathy D. Smith,
Chief Counsel.

[FR Doc. 00-29968 Filed 11-24-00; 8:45 am]

BILLING CODE 3510-60-P